DEPARTMENT OF TRANSPORTATION

Federal Aviation Administration

14 CFR Part 39

[Docket No. 99-NM-86-AD; Amendment 39-12699; AD 2002-07-05]

RIN 2120-AA64

Airworthiness Directives; Airbus Model A300 B2, A300 B4, A300 B4-600, and A300 B4-600R Series Airplanes; and Model A300 F4-605R Airplanes

AGENCY: Federal Aviation Administration, DOT.

ACTION: Final rule.

SUMMARY: This amendment adopts a new airworthiness directive (AD), applicable to all Airbus Model A300 B2, A300 B4, A300 B4-600, and A300 B4-600R series airplanes, and Model A300 F4-605R airplanes. This AD requires repetitive inspections for cracking of certain fittings, corrective action if necessary, and, for certain airplanes, a modification. This AD also provides an optional terminating action for the repetitive inspections. The actions specified by this AD are intended to detect and correct propagation of cracks on the frame 40 aft fittings due to local stress concentrations at the upper flange runout of frame 40, which could result in reduced structural integrity of the airplane. This action is intended to address the identified unsafe condition.

DATES: Effective May 14, 2002.

The incorporation by reference of certain publications listed in the regulations is approved by the Director of the Federal Register as of May 14, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to all Airbus Model A300 B2, A300 B4, A300 B4-600, and A300 B4-600R series airplanes; and Model A300 F4-605R airplanes; was published as a supplemental notice of proposed rulemaking (NPRM) in the Federal Register on January 4, 2002 (67 FR 530). That action proposed to require repetitive inspections for cracking of certain fittings, corrective action if necessary, and, for certain airplanes, a modification; and would have provided for optional terminating action for the repetitive inspections.

Comments

Interested persons have been afforded an opportunity to participate in the making of this amendment. Due consideration has been given to the comments received from a single commenter in response to the second supplemental NPRM.

Provide Credit for Prior Inspection and Refer to Terminating Action

One commenter asks the FAA to revise the proposed rule to provide credit for an inspection already performed in accordance with the original issue of Airbus Service Bulletin A300-53-6048, dated January 16, 1996, provided that the inspection is accomplished in conjunction with Airbus Service Bulletin A300-57-6053. The commenter states that this would make the proposed rule consistent with the original issue of the corresponding French airworthiness directive, 98-481-270(B), dated December 2, 1998.

The same commenter also requests that we revise the proposed rule to provide for optional terminating action on Model A300 B4-600 and A300 B4-600R series airplanes and Model A300 F4-605R airplanes. The commenter states that inspection and rework per Airbus Service Bulletins A300-57-6052 and A300-57-6053 constitutes terminating action for airplanes on which no cracks are found and no subsequent rework is required.

The FAA concurs with the intent of the commenter's request, but we have already accommodated the request previously. We added Note 2 to the first supplemental NPRM to provide credit for an inspection done in accordance with the original issue of Airbus Service Bulletin A300-53-6048. In addition, we revised paragraph (b)(8) and paragraph (e) in the first supplemental NPRM to clarify that modification per Airbus Service Bulletin A300-57-6053, Revision 1, dated October 31, 1995, or Revision 02, dated June 2, 1999, terminates the proposed requirements, regardless of the inspection results. No change to the final rule is necessary.

Conclusion

After careful review of the available data, including the comments noted above, the FAA has determined that air safety and the public interest require the adoption of the rule as proposed in the second supplemental NPRM.

Cost Impact

The FAA estimates that 70 Model A300 B2, A300 B4, A300 B4-600, and A300 B4-600R series airplanes; and Model A300 F4-605R airplanes; of U.S. registry will be affected by this AD.

For affected airplanes, it will take approximately 92 work hours per airplane to accomplish the required modification, at an average labor rate of $60 per work hour. Required parts will cost as much as $874 per airplane. Based on these figures, the cost impact of the required modification is estimated to be as much as $6,394 per airplane.

It will take approximately 10 work hours per airplane to accomplish the required inspection, at an average labor rate of $60 per work hour. Based on these figures, the cost impact of the required inspection on U.S. operators is estimated to be $42,000, or $600 per airplane, per inspection cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-07-05 Airbus Industrie: Amendment 39-12699. Docket 99-NM-86-AD.

Applicability: All Model A300 B2, A300 B4, A300 B4-600, and A300 B4-600R series airplanes; and Model A300 F4-605R airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Required as indicated, unless accomplished previously.

To detect and correct propagation of cracks on the frame 40 aft fittings due to local stress concentrations at the upper flange runout of frame 40, which could result in reduced structural integrity of the airplane, accomplish the following:

Modification

(a) For airplanes on which Airbus Modification 10430 has not been done before the effective date of this AD: Concurrently with the inspection required by paragraph (b) of this AD, modify the profile of frame 40 aft fittings per the service information specified in Table 1, as follows:

Table 1.—Service Information
For Model— | Do the actions in accordance with either— | Of Airbus Service Bulletin— | Dated—
(1) A300 B2 and A300 B4 series airplanes | (i) Revision 01 or | A300-53-0296 | September 30, 1998.
| (ii) Revision 02 | A300-53-0296 | May 12, 1999.
(2) A300 B4-600 and A300 B4-600R series airplanes and Model A300 F4-605R airplanes. | (i) Revision 01 or (ii) Revision 03 | A300-53-6048 A300-53-6048 | September 30, 1998. February 21, 2000.

Note 2: For Model A300 B4-600 and A300 B4-600R series airplanes and Model A300 F4-605R airplanes: Actions performed in accordance with Airbus Service Bulletin A300-53-6048, dated January 16, 1996; or Revision 02, dated May 12, 1999; are acceptable for compliance with the applicable requirements of this AD.

Note 3: Airbus Service Bulletin A300-53-6048 refers to Airbus Service Bulletin A300-53-6063 as an additional source of service information for accomplishment of certain repairs.

Inspection

(b) For all airplanes, inspect the airplane per Table 2, as follows:

Table 2.—Inspection Requirements
Requirements | Description
(1) Area to inspect | The frame 40 AFT fitting.
(2) Type of inspection | Nondestructive test (NDT).
(3) Compliance time | As specified by paragraph (c) of this AD.
(4) Discrepancies to detect | Cracking.
(5) Service information | Inspect in accordance with the applicable service bulletin listed in Table 1 of this AD.
(6) Follow-on actions if you find no cracking | Repeat the inspection thereafter at the applicable interval specified by Table 3 of this AD.
(7) Corrective actions if you find cracking | Do the actions specified by paragraph (d) of this AD.
(8) Terminating action | The modification specified by paragraph (e) of this AD terminates the requirements of this AD.

Note 4: An NDT per Non-destructive Testing Manual 53-15-30, Part 6, Procedure C, is also acceptable for compliance with the requirements of paragraph (b) of this AD.

(c) Perform the inspection required by paragraph (b) of this AD per the schedule in Table 3 of this AD. For airplanes on which this inspection has been accomplished before the effective date of this AD, the initial compliance time may be extended by the repetitive interval following the date the inspection was accomplished. Table 3 follows:

Table 3.—Compliance Times for Inspection
For Model— | If the total flight cycles accumulated on the airplane as of the effective date of this AD is— | Then inspect— | And repeat the inspection at least every—
(1) A300 B4-600 and A300 B4-600R series airplanes and Model A300 F4-605R airplanes, pre-Modification 10430 | (i) Fewer than 6,200 | Before the airplane accumulates 7,700 total flight cycles or 17,710 total flight hours, whichever occurs first. | 7,500 flight cycles or 17,250 flight hours, whichever occurs first.
| (ii) At least 6,200 and fewer than 9,700 | Within 1,500 flight cycles or 3,450 flight hours after the effective date of this AD, whichever occurs first | 7,500 flight cycles or 17,250 flight hours, whichever occurs first.
| (iii) At least 9,700 | Within 750 flight cycles or 1,725 flight hours after the effective date of this AD, whichever occurs first | 7,500 flight cycles or 17,250 flight hours, whichever occurs first.
(2) A300 B4-600 and A300 B4-600R series airplanes and Model A300 B-4605R airplanes, post-Modification 10430 | (i) Fewer than 19,600 | Before the airplane accumulates 21,100 total flight cycles or 48,530 total flight hours, whichever occurs first | 7,500 flight cycles or 17,250 flight hours, whichever occurs first.
| (ii) At least 19,600 and fewer than 23,100 | Within 1,500 flight cycles or 3,450 flight hours after the effective date of this AD, whichever occurs first | 7,500 flight cycles or 17,250 flight hours, whichever occurs first.
| (iii) At least 23,100 | Within 750 flight cycles or 1,725 flight hours after the effective date of this AD, whichever occurs first | 7,500 flight cycles or 17,250 flight hours, whichever occurs first.
(3) A300 B2 series airplanes | (i) Fewer than 12,00 | Before the airplane accumulates 14,000 total flight cycles or 15,120 total flight hours, whichever occurs first | 5,500 flight cycles or 5,940 flight hours, whichever occurs first.
| (ii) At least 12,000 and fewer than 17,000 | Within 2,000 flight cycles or 2,160 flight hours after the effective date of this AD, whichever occurs first | 5,500 flight cycles or 5,940 flight hours, whichever occurs first.
| (iii) At least 17,000 | Within 1,000 flight cycles or 1,080 flight hours after the effective date of this AD, whichever occurs first | 5,500 flight cycles or 5,940 flight hours, whichever occurs first.
(4) A300 B4-100 series airplanes | (i) Fewer than 9,500 | Before the airplane accumulates 11,500 total flight cycles or 15,295 total flight hours, whichever occurs first | 4,500 flight cycles or 5,985 flight hours, whichever occurs first.
| (ii) At least 9,500 and fewer than 14,500 | Within 2,000 flight cycles or 2,660 flight hours after the effective date of this AD, whichever occurs first | 4,500 flight cycles or 5,985 flight hours, whichever occurs first.
| (iii) At least 14,500 | Within 1,000 flight cycles or 1,330 flight hours after the effective date of this AD, whichever occurs first | 4,500 flight cycles or 5,985 flight hours, whichever occurs first.
(5) A300 B4-200 series airplanes | (i) Fewer than 8,500 | Before the airplane accumulates 10,500 total flight cycles or 21,840 total flight hours, whichever occurs first | 4,000 flight cycles or 8,320 flight hours, whichever occurs first.
| (ii) At least 8,500 and fewer than 13,500 | Within 2,000 flight cycles or 4,160 flight hours after the effective date of this AD, whichever occurs first | 4,000 flight cycles or 8,320 flight hours, whichever occurs first.
| (iii) At least 13,500 | Within 1,000 flight cycles or 2,080 flight hours after the effective date of this AD, whichever occurs first | 4,000 flight cycles or 8,320 flight hours, whichever occurs first.

Note 5: An NDT inspection is also required by AD 98-25-07, amendment 39-10933, to be repetitively performed on Model A300 B4-600 and A300 B4-600R series airplanes and Model A300 F4-605R airplanes on which Airbus Modification 10453 has not been installed. For those airplanes, if the inspection is done within the applicable compliance time specified by paragraph (c) of this AD, the threshold for the initial inspection of paragraph (b) of this AD may be extended by 1,500 flight cycles.

Corrective Actions

(d) If any cracking is found during any inspection required by paragraph (b) of this AD: Except as required by paragraph (f) of this AD, prior to further flight, perform all applicable corrective actions in accordance with the applicable service bulletin identified in Table 1 of this AD.

Terminating Action

(e) Accomplishment of the applicable modification in accordance with the applicable service bulletin specified by paragraph (e)(1) or (e)(2) of this AD terminates the requirements of this AD.

(1) For Model A300 B4-600 and A300 B4-600R series airplanes: In accordance with Airbus Service Bulletin A300-57-6053, Revision 1, dated October 31, 1995; or Revision 02, dated June 2, 1999.

(2) For Model A300 B2 and A300 B4 series airplanes: In accordance with Airbus Service Bulletin A300-53-0297, Revision 2, dated October 31, 1995.

Exception to Service Bulletin Instructions

(f) During any inspection required by this AD, if the service bulletin specifies to contact the manufacturer for an appropriate action: Prior to further flight, repair in accordance with a method approved by the Manager, International Branch, ANM-116, Transport Airplane Directorate, FAA; or the Direction Générale de l'Aviation Civile (DGAC) (or its delegated agent).

Alternative Methods of Compliance

(g) An alternative method of compliance or adjustment of the compliance time that provides an acceptable level of safety may be used if approved by the Manager, International Branch, ANM-116. Operators shall submit their requests through an appropriate FAA Principal Maintenance Inspector, who may add comments and then send it to the Manager, International Branch, ANM-116.

Note 6: Information concerning the existence of approved alternative methods of compliance with this AD, if any, may be obtained from the International Branch, ANM-116.

Special Flight Permits

(h) Special flight permits may be issued in accordance with §§ 21.197 and 21.199 of the Federal Aviation Regulations (14 CFR 21.197 and 21.199) to operate the airplane to a location where the requirements of this AD can be accomplished.

Incorporation by Reference

(i) Except as required by paragraph (f) of this AD, the required actions shall be done in accordance with the applicable service documents identified in Table 4 and Table 5 of this AD, as follows:

Table 4.—Referenced Service Documents for Required Actions
Service bulletin and date | Page numbers | Revision level shown on the page | Date shown on page
Airbus Service Bulletin A300-53-0296, Revision 01, September 30, 1998 | 1-38 | 01 | September 30, 1998.
Airbus Service Bulletin A300-53-0296, Revision 02, May 12, 1999 | 1-3, 8, 15, 16,18, 20, 22, 23,24 | 02 | May 12, 1999.
| 4-7, 9-14, 17, 19, 21, 25, 26, 27-38 | 01 | September 30, 1998.
Airbus Service Bulletin A300-53-6048, Revision 01, September 30, 1998 | 1-31 | 01 | September 30, 1998.
Airbus Service Bulletin A300-53-6048, Revision 03, February 21, 2000 | 1-32 | 03 | February 21, 2000.

Table 5.—Referenced Service Documents for Optional Terminating Action
Service bulletin and date | Page numbers | Revision level shown on the page | Date shown on page
Airbus Service Bulletin A300-57-6053, Revision 1, October 31, 1995 | 1, 7-9, 11-15, 19-24, 35, 36, 41, 42, 45-47 | 1 | October 31, 1995.
| 2-6, 10, 16-18, 25-34, 37-40, 43, 44 | Original | February 21, 1995.
Airbus Service Bulletin A300-57-6053, Revision 02, June 2, 1999 | 1-6, 8, 23, 23a, 46, 47 | 02 | June 2, 1999.
| 7, 9, 11, 12, 13-15, 19-22, 35, 36, 41, 42, 45 | 1 | October 31, 1995.
| 10, 16-18, 25, 26, 27-34, 37-40, 43, 44 | Original | February 21, 1995.
Airbus Service Bulletin A300-53-0297, Revision 2, October 31, 1995 | 1-60 | 2 | October 31, 1995.

This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 7: The subject of this AD is addressed in French airworthiness directive 1998-481-270(B) R1, dated July 12, 2000.

Effective Date

(j) This amendment becomes effective on May 14, 2002.

Issued in Renton, Washington, on March 28, 2002.
Kalene C. Yanamura,
Acting Manager, Transport Airplane Directorate, Aircraft Certification Service.

[FR Doc. 02-8278 Filed 4-8-02; 8:45 am]

BILLING CODE 4910-13-P